DEPARTMENT OF TRANSPORTATION

Office of the Secretary

[Docket ID Number: DOT-OST-2010-0054]

Notice of Submission of Proposed Information Collection to OMB; Agency Request for Renewal of Previously Approved Collections: Nondiscrimination on the Basis of Disability in Air Travel: Reporting Requirements for Disability-Related Complaints

AGENCY: Office of the Secretary (OST), Department of Transportation (Department or DOT).

ACTION: Notice of submission to the Office of Management and Budget (OMB) and request for comments.

SUMMARY: In accordance with the Paperwork Reduction Act of 1995 (44 U.S.C. Chapter 35, as amended), the Department is forwarding the Information Collection Request (ICR) described below to OMB for review. DOT published a Federal Register notice with a 60-day comment period soliciting comments on the following collections of information on November 28, 2025 (90 FR 54,880). DOT received four comments on the 60-day notice which are addressed below. DOT considered the comments and concluded that it will not make any changes to the information collections before it submits the ICR to OMB for review. This notice is to allow the public an additional 30 days from the date of this notice to submit comments to the recently published application to renew OMB Control Number: 2105-0551, “Reporting Requirements for Disability-Related Complaints.”

DATES: Interested persons are invited to submit comments regarding this proposal. Written comments should be submitted by March 2, 2026.

ADDRESSES: Written comments and recommendations for the proposed information collection should be sent within 30 days of publication of this notice via www.reginfo.gov/public/do/PRAMain. Find this particular information collection by selecting “Currently under Review—Open for Public Comments” or by using the search function.

FOR FURTHER INFORMATION CONTACT: John Wood, Office of Aviation Consumer Protection, U.S. Department of Transportation, 1200 New Jersey Avenue SE, Washington, DC 20590, Telephone Number (202) 366-9342, C70notice@dot.gov (email). Arrangements to receive this document in an alternative format may be made by contacting the above-named individual.

SUPPLEMENTARY INFORMATION:

OMB Control Number: 2105-0551.

Title: Reporting Requirements for Disability-Related Complaints.

Type of Request: Renewal of information collections.

Background: The Department's regulation 14 CFR 382.157 requires U.S. and foreign air carriers operating to, from and within the United States that conduct passenger-carrying service with at least one aircraft with a designed seating capacity of more than 60 passengers (large aircraft) to record disability-related complaints. The carriers must also categorize these complaints according to the type of disability and nature of complaint, prepare a summary report annually of the complaints received during the preceding calendar year, submit the report to the Department's Office of Aviation Consumer Protection, and retain copies of correspondence and records of action taken on the reported complaints for three years. Carriers are required to submit their annual report to the Department by the last Monday in January of each year for the complaints received during the priority calendar year. Carriers must submit their annual report through the World Wide Web except if the carrier can demonstrate an undue burden by doing so and receives permission from the Department to submit it in an alternative manner.

The Department relies on the disability-related complaint information collections primarily to comply with 49 U.S.C. 41705(c)(3), which requires the Secretary of Transportation to “regularly review all complaints received by carriers alleging discrimination on the basis of disability” and “report annually to Congress on the results of such review.” The Department may also rely on this information to inform policy and in enforcement matters. The Department publishes the data collected from airlines each year, and the corresponding reports to Congress, on its website at: https://www.transportation.gov/airconsumer/annual-report-disability-related-air-travel-complaints.

The Paperwork Reduction Act of 1995 (PRA) and its implementing regulations, 5 Code of Federal Regulations (CFR) Part 1320, require Federal agencies to issue two notices seeking public comment on information collection activities before OMB may approve paperwork packages. On November 28, 2025, DOT published a 60-day notice in the Federal Register soliciting comment on the ICRs for which the agency seeks OMB approval. See 90 FR 54,880.

DOT received four comments on the notice. The commenters include the Muscular Dystrophy Association (MDA), Paralyzed Veterans of America (PVA)—writing on behalf of 23 disability rights organizations or chapters—a representative of North Central Independent Living Services, and an anonymous member of the public.

In general, the commenters agreed that the requirements for carriers to collect and report disability-related complaints received by carriers are necessary. The commenters urged the Department to enhance the collection of information so that it is more useful to individuals with disabilities and better reflects what may be violations of the Air Carrier Access Act (ACAA). In support of this, PVA and MDA referenced the new reporting requirement of section 545 of the FAA Reauthorization Act of 2024 that requires the Department to submit a report to Congress on consumer complaints related to passengers with disabilities filed with DOT. PVA stated that the information required for this new report is more specific than information that the Department currently collects from airlines, and that some of the required information goes beyond the current data collection.

With regard to the Department's burden estimates, PVA and MDA highlighted the reporting efficiencies and capabilities of the Department's Aviation Complaint, Enforcement, and Reporting System (ACERS), which the Department recently rolled out for air carriers to use to submit their reports. PVA asserted that DOT's estimate of .5 hours per year for airlines to submit reports to DOT may be overestimated due to the efficiencies ACERS provides. To minimize burden associated with the collections, PVA suggested that carriers utilize check boxes for established complaint categories on their complaint forms and make complaint forms easier to find on the carriers' websites, so passengers do not have to call the carrier about their complaint, which could increase the burden.

The anonymous commenter suggested that the Air Carrier Access Act Advisory Committee participate in any discussions on changes to the reporting requirement and provide recommendations for improvement. That commenter also urged the Department to ensure that the report and its web page are accessible with ACAA and Americans with Disabilities Act (ADA) requirements.

After reviewing all the comments, DOT has determined that no changes are necessary to the ICR prior to submission to OMB for review. DOT's annual reports are comprised of data that airlines are currently required to report under 14 CFR part 382. As such, any enhancements to these reporting requirements, including those suggested by the commenters, would be more appropriately addressed through rulemaking.

The Department agrees with PVA and MDA that ACERS offers carriers enhanced reporting efficiencies. However, for the purposes of seeking renewal of these ICRs, DOT will retain its burden estimate of .5 hours. This estimate accounts for all reporting carriers and includes a reasonable estimate of time carriers will need to conduct the due diligence required to prepare and submit an accurate report. With respect to publishing accessible content on its web pages, DOT remains committed to ensuring that content posted on its website, including reports, is accessible to individuals with disabilities to federal accessibility standards.

The Department announces that these information collection activities have been re-evaluated and certified under 5 CFR 1320.5(a) and is forwarding to OMB for review and approval pursuant to 5 CFR 1320.12(c). Before OMB decides whether to approve these proposed collections of information, it must provide 30 days for public comment. 44 U.S.C. 3507(b); 5 CFR 1320.12(d). Federal law requires OMB to approve or disapprove paperwork packages between 30 and 60 days after the 30-day notice is published. 44 U.S.C. 3507(b)-(c); 5 CFR 1320.12(d); see also 60 FR 44,983 (Aug. 29, 1995). Therefore, respondents should submit their respective comments to OMB within 30 days of publication to best ensure their full consideration. 5 CFR 1320.12(c); see also 60 FR 44,983 (Aug. 29, 1995).

For each information collection, the title, a description of the respondents, and an estimate of the annual recordkeeping and periodic reporting burden are set forth below.

(1) Requirement to record and categorize complaints received.

Respondents: U.S. air carriers and foreign air carriers operating to and from the United States that conduct passenger-carrying service with at least one large aircraft.

Number of Respondents: 170 (the total number of respondents that reported for Calendar Year (CY) 2023).¹

¹ Disability-related complaints data for CY 2023 were the most recent data available to the Department as of the time of the Department's estimates to support this request for renewal.

Frequency: 49,082 complaints per year total for all respondents, which represents the number of complaints received by all respondents combined during CY 2023 (0-9,717 complaints is the range of the lowest number of complaints and the highest number of complaints received by any respondent during CY 2023).

Estimated Burden on Respondents: .25 hours on each respondent to categorize and record each complaint.

Estimated Total Annual Burden: 12,270.5 hours for all respondents (time to record and categorize each complaint (.25 hours) multiplied by the total number of complaints received during CY 2023 (49,082)). On average, the estimated annual burden per respondent is a range of 0-2,429.25 hours per carrier.

(2) Requirement to prepare and submit annual report.

Carriers will generally submit their reports electronically through ACERS or another means approved by the Department.

Respondents: U.S. air carriers and foreign air carriers operating to and from the United States that conduct passenger-carrying service with at least one large aircraft.

Number of Respondents: 170 (the total number of respondents that reported for CY 2023).

Frequency: 1 report to DOT per year for each respondent.

Estimated Burden on Respondents: 0.5 hours a year for each respondent to report to DOT.

Estimated Total Annual Burden: 85 hours for all respondents (time to report (0.5 hours) multiplied by 170, the total number of respondents).

(3) Requirement to retain correspondences and records of action taken on all disability-related complaints.

Respondents: U.S. air carriers and foreign air carriers operating to and from the United States that conduct passenger-carrying service with at least one large aircraft.

Number of Respondents: 170 (the total number of respondents that reported for CY2023).

Frequency: 49,082 complaints per year total for all respondents, which represents the number of complaints received by all respondents combined during CY 2023 (0-9,717 complaints is the range of the lowest number of complaints and the highest number of complaints received by any respondent during CY 2023).

Estimated Burden on Respondents: 0.083 (repeating) hours per complaint (the time it takes for a respondent to retain or save the correspondences and records of action taken on a single disability-related complaint).

Estimated Total Annual Burden: 4,090.17 hours (time it takes for a respondent to retain or save the correspondences and records of action taken on a single disability-related complaints (0.083 (repeating) hours) multiplied by the total number of complaints received during CY 2023 (49,082)).

Comments Invited

Comments are invited on: (a) Whether the collection of information is necessary for the proper performance of the functions of the Department, including whether the information will have practical utility; (b) the accuracy of the Department's estimate of the burden of the proposed information collection; (c) ways to enhance the quality, utility and clarity of the information to be collected; and (d) ways to minimize the burden of the collection of information on respondents.

Authority: The Paperwork Reduction Act of 1995; 44 U.S.C. chapter 35, as amended; and 49 CFR 1.26, 1.27, 1.48; DOT Order 1351.29A.

Issued in Washington, DC, on January 28, 2026.
Livaughn Chapman, Jr.,
Deputy Assistant General Counsel.

[FR Doc. 2026-01914 Filed 1-29-26; 8:45 am]

BILLING CODE 4910-9X-P